DEPARTMENT OF COMMERCE

Office of the Secretary

Agency Information Collection Activities; Submission to the Office of Management and Budget (OMB) for Review and Approval; Comment Request; Eligibility Questionnaire for HAVANA Act Payments

AGENCY: Office of the Secretary, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 14, 2023.

ADDRESSES: Interested persons are invited to submit written comments by mail to Anna Kelley, 1401 Constitution Avenue NW, Rooms 1844-1846, Washington, DC 20230 or by email to anna.kelley@trade.gov or PRAcomments@doc.gov. Please reference OMB Control Number 0690-0037 in the subject line of your comments. Do not submit Confidential Business Information or otherwise sensitive or protected information.

FOR FURTHER INFORMATION CONTACT: Requests for additional information or specific questions related to collection activities should be directed to Charles Cutshall, Chief Privacy Officer, 202-482-5735, and ccutshall@doc.gov.

SUPPLEMENTARY INFORMATION:

I. Abstract

This is a request for an extension of an approved information collection.

This collection of information is needed to obtain information from respondents of the Helping American Victims Affected by Neurological Attacks (HAVANA) Act of 2021, which was signed by President Biden in October 2021. The Act provides for the possibility of one-time lump sum payments for those affected by Anomalous Health Incidents (AHIs).

This includes current and former Department employees, and dependents of current or former employees who, on or after January 1, 2016, became injured by a qualifying injury to the brain while they were an employee of the Department.

II. Method of Collection

Information on this form will be collected electronically, email, mail, fax, or interviews.

III. Data

OMB Control Number: 0690-0037.

Form Number(s): CD-350.

Type of Review: Regular submission, Extension of approved information collection.

Affected Public: Individuals or Federal Government personnel.

Estimated Number of Respondents: 20.

Estimated Time per Response: 1 hour (30 minutes claimant/30 minutes physician).

Estimated Total Annual Burden Hours: 20.

Estimated Total Annual Cost to Public: $2,350.35.

Respondent's Obligation: Voluntary.

Legal Authority: HAVANA Act of 2021 (Pub. L. 117-46).

IV. Request for Comments

We are soliciting public comments to permit the Department to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-12641 Filed 6-12-23; 8:45 am]

BILLING CODE 3510-17-P